DEPARTMENT OF TRANSPORTATION

Office of the Secretary

Aviation Proceedings, Agreements Filed the Week Ending December 15, 2006

The following Agreements were filed with the Department of Transportation under the Sections 412 and 414 of the Federal Aviation Act, as amended (49 U.S.C. 1383 and 1384) and procedures goving proceeding to enforce these provisions. Answers may be filed within 21 days after the filing of the application.

Docket Number: OST-2006-26628.

Date Filed: December 15, 2006.

Parties Members of the International Air Transport Association.

Subject TC31 North & Central Pacific

Areawide Resolutions (Memo 0389). Intended effective date: 1 April 2007.

Docket Number: OST-2006-26630.

Date Filed: December 15, 2006.

Parties: Members of the International Air Transport Association.

Subject: TC31 North & Central Japan-North America, Caribbean, Resolutions and Specified Fares Tables (Memo 0390). Intended effective date: 1 April 2007.

Docket Number: OST-2006-26631.

Date Filed: December 15, 2006.

Parties: Members of the International Air Transport Association.

Subject: TC31 North & Central, TC3-Central America, South America, Resolutions and Specified Fares Tables (Memo 0391). Intended effective date: 1 April 2007.

Docket Number: OST-2006-26632.

Date Filed: December 15, 2006.

Parties: Members of the International Air Transport Association.

Subject: TC123 Areawide, Resolution 015v (Memo 0342). Intended effective date: 1 April 2007.

Docket Number: OST-2006-26633.

Date Filed: December 15, 2006.

Parties: Members of the International Air Transport Association.

Subject: TC123 South Atlantic, Resolutions and Specified Fares Tables (Memo 0344), Technical Corrections: TC123 South Atlantic Resolutions, (Memo 0348). Intended effective date: 1 April 2007.

Docket Number: OST-2006-26634.

Date Filed: December 15, 2006.

Parties: Members of the International Air Transport Association.

Subject: TC123 Mid Atlantic, Resolutions and Specified Fares Tables (Memo 0345). Intended effective date: 1 April 2007.

Docket Number: OST-2006-26635.

Date Filed: December 15, 2006.

Parties: Members of the International Air Transport Association.

Subject: TC123 North Atlantic, (Except between USA and Korea (Rep. Of), Malaysia), Resolutions and Specified Fares Tables (Memo 0346). Intended effective date: 1 April 2007.

Docket Number: OST-2006-26636.

Date Filed: December 15, 2006.

Parties: Members of the International Air Transport Association.

Subject: TC123 North Atlantic, (Between USA and Korea (Rep. Of), Malaysia), Resolutions and Specified Fares Tables (Memo 0347). Intended effective date: 1 April 2007.

Renee V. Wright,
Program Manager, Docket Operations, Federal Register Liaison.

[FR Doc. E6-22274 Filed 12-27-06; 8:45 am]

BILLING CODE 4910-9X-P